DEPARTMENT OF THE TREASURY

Submission for OMB Review; Comment Request

February 15, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before March 24, 2006 to be assured of consideration.

Financial Management Service

OMB Number: 1510-0048.

Type of Review: Extension.

Title: Minority Bank Deposit Program (MBDP) Certification Form for Admission.

Form: FMS form 3144.

Description: A financial institution who wants to participate in the MBDP must complete this form. The approved application certifies the institution as minority and is admitted into the program.

Respondents: Business or other for-profit.

Estimated Total Burden Hours: 75 hour.

Clearance Officer: Jiovannah Diggs, (202) 874-7662, Financial Management Service, Room 144, 3700 East West Highway, Hyattsville, MD 20782.

OMB Reviewer: Alexander T. Hunt, (202) 395-7316, Office of Management and Budget, Room 10235, New Executive Office Building, Washington, DC 20503.

Michael A. Robinson,
Treasury PRA Clearance Officer.

[FR Doc. E6-2441 Filed 2-21-06; 8:45 am]

BILLING CODE 4810-35-P